DEPARTMENT OF TRANSPORTATION

Federal Aviation Administration

14 CFR Part 39

[Docket No. FAA-2010-0957; Directorate Identifier 2010-NM-062-AD; Amendment 39-16718; AD 2011-12-11]

RIN 2120-AA64

Airworthiness Directives; The Boeing Company Model 767 Airplanes

AGENCY: Federal Aviation Administration (FAA), DOT.

ACTION: Final rule.

SUMMARY: We are superseding an existing airworthiness directive (AD) for the products listed above. That AD currently requires, for certain airplanes, reworking the bonding jumper assemblies on the drain tube assemblies of the slat track housing of the wings. For certain other airplanes, the existing AD requires repetitive inspections of the drain tube assemblies of the slat track housing of the wings to find discrepancies, corrective actions if necessary, and terminating action for the repetitive inspections. This new AD also requires replacing the drain tube assemblies. For certain airplanes, this new AD also requires installing an additional electrostatic bond path for the number 5 and 8 inboard slat track drain tube assemblies. For certain other airplanes, this new AD also requires reworking the bonding jumper assembly. This new AD also revises the applicability to include additional airplanes. This AD was prompted by (1) reports of fuel leaks from certain drain locations of the slat track housing near the engine exhaust nozzle, which could result in a fire when the airplane is stationary, or taxiing at low speed; (2) reports of a bonding jumper assembly of certain drain tubes that did not meet bonding specifications and could result in electrostatic discharge and an in-tank ignition source; and (3) reports of fuel leaks onto the main landing gear (MLG) as a result of a cracked drain tube at the number 5 or 8 slat track housing, which could let fuel drain from the main fuel tanks into the dry bay area of the wings and onto hot MLG brakes and result in a fire.

DATES: This AD is effective July 22, 2011.

The Director of the Federal Register approved the incorporation by reference of certain publications listed in the AD as of July 27, 2011.

The Director of the Federal Register approved the incorporation by reference of certain other publications listed in this AD as of August 28, 2001 (66 FR 38350, July 24, 2001).

ADDRESSES: For service information identified in this AD, contact Boeing Commercial Airplanes, Attention: Data & Services Management, P. O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Rebel Nichols, Aerospace Engineer, Propulsion Branch, ANM-140S, FAA, Seattle Aircraft Certification Office (ACO), 1601 Lind Avenue, SW., Renton, Washington 98057-3356; phone: 425-917-6509; fax: 425-917-6590; e-mail: rebel.nichols@faa.gov.

SUPPLEMENTARY INFORMATION:

Discussion

We issued a notice of proposed rulemaking (NPRM) to amend 14 CFR part 39 to supersede AD 2001-14-19, amendment 39-12330 (66 FR 38350, July 24, 2001). That AD applies to the specified products. The NPRM was published in the Federal Register on October 7, 2010 (75 FR 61999). That NPRM proposed to continue to require, for certain airplanes, reworking the bonding jumper assemblies on the drain tube assemblies of the slat track housing of the wings. That NPRM also proposed to continue to require, for certain other airplanes, repetitive inspections of the drain tube assemblies of the slat track housing of the wings to find discrepancies, corrective actions if necessary, and terminating action for the repetitive inspections. That NPRM also proposed to require replacing the drain tube assemblies, and, for certain airplanes, installing an additional electrostatic bond path for the number 5 and 8 inboard slat track drain tube assemblies. For certain other airplanes, that NPRM also proposed to require reworking the bonding jumper assembly. That NPRM also proposed to revise the applicability to include additional airplanes.

Comments

We gave the public the opportunity to participate in developing this AD. The following presents the comments received on the proposal and the FAA's response to each comment.

Support for the NPRM

Boeing concurs with the contents of the NPRM.

Request To Clarify Service Information

Continental Airlines requested that we revise the NPRM to correct discrepancies in Boeing Service Bulletin 767-57A0094, Revision 2, dated December 17, 2009. (That service bulletin was cited in the NPRM as the appropriate source of service information for the drain tube replacement on Model 767-200, -300, and -300F series airplanes.) In Figure 13 (Sheet 2 of 5) on page 104, and Figure 14 (Sheet 2 of 5) on page 109, the view identified as “C” should be identified as “A.” These discrepancies were communicated to Boeing and confirmed as discrepancies.

We agree and have revised paragraph (j) in this final rule to specify these corrections.

Request To Clarify Requirements

American Airlines stated that the Relevant Service Information section of the NPRM provides the current requirements (for AD 2001-14-19) but does not provide in detail the new additional requirements for the NPRM. That paragraph, according to the commenter, merely provides information regarding the service bulletins, not the specific proposed requirements. The commenter added that the Relevant Service Information section does not explain whether the new actions are to be done in accordance with the original or revised service information. The commenter requested that the final rule provide in detail the specific actions that would be required to comply with the new AD.

We agree to provide clarification. The commenter is correct that the Relevant Service Information section describes only the procedures specified in the service information referenced in an AD. When we supersede an existing AD, the Relevant Service Information section highlights the differences in any new service information to provide notice for the public to comment on the new material. New service information includes new service bulletins as well as significant changes in revisions to previously described service bulletins. The proposed requirements are then provided in “The FAA's Determination and Requirements of the Proposed AD.” We have not changed the final rule regarding this issue.

Explanation of Change to NPRM

We have revised the Costs of Compliance section in this final rule to provide updated figures for the estimated number of affected airplanes. This change does not significantly affect the fleet cost.

Conclusion

We reviewed the relevant data, considered the comments received, and determined that air safety and the public interest require adopting the AD with the change described previously. We also determined that this change will not increase the economic burden on any operator or increase the scope of the AD.

Costs of Compliance

There are about 920 airplanes of the affected design in the worldwide fleet. The following table provides the estimated costs for U.S. operators to comply with this proposed AD. The average labor rate is $85 per hour.

Estimated Costs
Action | Work hours | Parts | Cost per airplane | Number of U.S.-registered airplanes | Fleet cost
Inspection (required by AD 2001-14-19) | 1 | $0 | $85 per inspection cycle | 273 | $23,205 per inspection cycle.
Drain tube replacement (required by AD 2001-14-19) | 12 | 5,236 | $6,256 | 273 | $1,707,888.
Bonding jumper assembly rework (required by AD 2001-14-19) | 4 | 322 | $662 | 48 | $31,776.
Drain tube replacement (new action) | Between 7 and 11, depending on configuration | 1,117 | Between $1,712 and $2,052 | 412 | Between $705,344 and $845,424.

We estimate the following costs to rework the drain tube assembly that might be required based on the results of the proposed inspection. We have no way of determining the number of aircraft that might need this rework.

On-Condition Costs
Action | Labor cost | Parts cost | Cost per product
Drain tube assembly rework | 4 work-hours × $85 per hour = $340 | Negligible | $340

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2001-14-19, Amendment 39-12330 (66 FR 38350, July 24, 2001), and adding the following new AD:

2011-12-11 The Boeing Company: Amendment 39-16718; Docket No. FAA-2010-0957; Directorate Identifier 2010-NM-062-AD.

Effective Date

(a) This airworthiness directive (AD) is effective July 22, 2011.

Affected ADs

(b) This AD supersedes AD 2001-14-19, Amendment 39-12330.

Applicability

(c) This AD applies to The Boeing Company airplanes, certificated in any category, identified in paragraphs (c)(1) and (c)(2) of this AD.

(1) Model 767-200, -300, and -300F series airplanes, as identified in Boeing Service Bulletin 767-57A0094, Revision 2, dated December 17, 2009.

(2) Model 767-400ER series airplanes, as identified in Boeing Service Bulletin 767-57A0095, Revision 2, dated December 17, 2009.

Subject

(d) Air Transport Association (ATA) of America Code 57: Wings.

Unsafe Condition

(e) This AD results from (1) reports of fuel leaks from certain drain locations of the slat track housing near the engine exhaust nozzle, which could result in a fire when the airplane is stationary, or taxiing at low speed; (2) reports of a bonding jumper assembly of certain drain tubes that did not meet bonding specifications and could result in electrostatic discharge and an in-tank ignition source; and (3) reports of fuel leaks onto the main landing gear (MLG) as a result of a cracked drain tube at the number 5 or 8 slat track housing, which could let fuel drain from the main fuel tanks into the dry bay area of the wings and onto hot MLG brakes and result in a fire.

Compliance

(f) You are responsible for having the actions required by this AD performed within the compliance times specified, unless the actions have already been done.

Restatement of Requirements of AD 2001-14-19, Amendment 39-12330, With Revised Service Information

Repetitive Inspections/Corrective Action

(g) For airplanes identified in Boeing Service Bulletin 767-57A0060, Revision 1, dated December 31, 1998: Within 500 flight hours after August 28, 2001 (the effective date of AD 2001-14-19), do a general visual inspection of the drain tube assemblies of the slat track housings of the wings to find discrepancies (loose fittings, cracked tubes, fuel leaks), per Part I of the Accomplishment Instructions of Boeing Service Bulletin 767-57A0060, Revision 1, dated December 31, 1998; or Revision 2, dated January 31, 2002. After the effective date of this AD, only Revision 2 may be used.

(1) If any discrepancies are found, before further flight, rework the drain tube assembly per Part II of the Accomplishment Instructions of Boeing Service Bulletin 767-57A0060, Revision 1, dated December 31, 1998; or Revision 2, dated January 31, 2002. After the effective date of this AD, only Revision 2 may be used. Repeat the inspection at intervals not to exceed 500 flight hours until accomplishment of the requirements in paragraph (h) of this AD.

(2) If no discrepancies are found, repeat the inspection thereafter at intervals not to exceed 500 flight hours, until accomplishment of the requirements in paragraph (h) of this AD.

Note 1: For the purposes of this AD, a general visual inspection is defined as: “A visual examination of an interior or exterior area, installation, or assembly to find obvious damage, failure, or irregularity. This level of inspection is made under normally available lighting conditions such as daylight, hangar lighting, flashlight, or drop-light and may require removal or opening of access panels or doors. Stands, ladders, or platforms may be required to gain proximity to the area being checked.”

Terminating Action for Repetitive Inspections

(h) For airplanes specified in paragraph (g) of this AD: Within 6,000 flight hours or 24 months after August 28, 2001, whichever occurs first, replace the drain tube assemblies of the slat track housings of the wings (including general visual inspection and repair) per Part III of the Accomplishment Instructions of Boeing Service Bulletin 767-57A0060, Revision 1, dated December 31, 1998; or Revision 2, dated January 31, 2002. After the effective date of this AD, only Revision 2 may be used. Any applicable repair must be accomplished prior to further flight. Accomplishment of this paragraph terminates the repetitive inspections required by paragraph (g) of this AD.

Rework of Bonding Jumper Assemblies

(i) For airplanes identified in Boeing Service Bulletin 767-57-0068, dated September 16, 1999: Within 5,000 flight cycles or 22 months after August 28, 2001, whichever occurs first, rework the bonding jumper assembly of the drain tube assemblies of the slat track housing of the wings (including general visual inspection and repair) per the Accomplishment Instructions of Boeing Service Bulletin 767-57-0068, dated September 16, 1999; or Revision 1, dated May 9, 2002. After the effective date of this AD, only Revision 1 may be used. Any applicable repair must be accomplished prior to further flight.

New Requirements of This AD

Drain Tube Replacement

(j) Within 24 months after the effective date of this AD, replace affected drain tube assemblies of the number 5 and number 8 inboard slat track housing, in accordance with the Accomplishment Instructions of Boeing Service Bulletin 767-57A0094 (for Model 767-200, -300, and -300F series airplanes) or 767-57A0095 (for Model 767-400ER series airplanes), both Revision 2, both dated December 17, 2009; except, in Figure 13 (Sheet 2 of 5) on page 104 and Figure 14 (Sheet 2 of 5) on page 109 of Boeing Service Bulletin 767-57A0094, the view identified as “C” should be identified as “A.”

Concurrent Requirements

(k) For airplanes in Groups 1, 2, and 3, as identified in Boeing Service Bulletin 767-57A0094, Revision 2, dated December 17, 2009: The actions specified in paragraphs (k)(1), (k)(2), and (k)(3) of this AD, as applicable, must be done before or concurrently with the requirements of paragraph (j) of this AD.

(1) For Groups 1 and 2: The requirements of paragraph (h) of this AD.

(2) For Group 2 airplanes: Installation of an additional electrostatic bond path for the number 5 and 8 inboard slat track drain tube assemblies, in accordance with Part IV of the Accomplishment Instructions of Boeing Service Bulletin 767-57A0060, Revision 1, dated December 31, 1998; or Revision 2, dated January 31, 2002.

(3) For Group 3 airplanes: The requirements of paragraph (i) of this AD.

(l) For airplanes identified in paragraph (i) of this AD, on which the actions required by paragraph (i) of this AD were done before the effective date of this AD in accordance with Boeing Service Bulletin 767-57-0068, dated September 16, 1999: Prior to or concurrently with the requirements of paragraph (j) of this AD, rework the bonding jumper assembly for the number 5 and 8 inboard slat track housing drain tube installation, in accordance with Part 2 of the Accomplishment Instructions of Boeing Service Bulletin 767-57-0068, Revision 1, dated May 9, 2002.

Credit for Actions Accomplished in Accordance With Previous Service Information

(m) Actions done before the effective date of this AD in accordance with an applicable service bulletin identified in table 1 of this AD are acceptable for compliance with the corresponding requirements of paragraph (j) of this AD.

Table 1—Credit Service Bulletins
Affected airplanes | Service Bulletin | Revision level | Date
Model 767-200, -300, and -300F series airplanes | Boeing Service Bulletin 767-57A0094 | Original 1 | June 2, 2005. December 19, 2006.
Model 767-400ER series airplanes | Boeing Service Bulletin 767-57A0095 | Original 1 | June 2, 2005. December 19, 2006.

Alternative Methods of Compliance (AMOCs)

(n)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to 9-ANM-Seattle-ACO-AMOC-Requests@faa.gov.

(2) Before using any approved AMOC, notify your appropriate principal inspector, or lacking a principal inspector, the manager of the local flight standards district office/certificate holding district office.

(3) AMOCs approved previously in accordance with AD 2001-14-19, Amendment 39-12330, are approved as AMOCs for the corresponding provisions of this AD.

Related Information

(o) For information about this AD, contact Rebel Nichols, Aerospace Engineer, Propulsion Branch, ANM-140S, FAA, Seattle Aircraft Certification Office (ACO), 1601 Lind Avenue, SW., Renton, Washington 98057-3356; phone: 425-917-6509; fax: 425-227-6590; e-mail: rebel.nichols@faa.gov.

Material Incorporated by Reference

(p) You must use the service information contained in Table 2 of this AD, as applicable, to do the actions required by this AD, unless the AD specifies otherwise.

Table 2—All Material Incorporated by Reference
Document | Revision | Date
Boeing Service Bulletin 767-57A0060 | 1 | December 31, 1998.
Boeing Service Bulletin 767-57A0060 | 2 | January 31, 2002.
Boeing Service Bulletin 767-57-0068 | Original | September 16, 1999.
Boeing Service Bulletin 767-57-0068 | 1 | May 9, 2002.
Boeing Service Bulletin 767-57A0094 | 2 | December 17, 2009.
Boeing Service Bulletin 767-57A0095 | 2 | December 17, 2009.

(1) The Director of the Federal Register approved the incorporation by reference of the service information contained in Table 3 of this AD under 5 U.S.C. 552(a) and 1 CFR part 51.

Table 3—New Material Incorporated by Reference
Document | Revision | Date
Boeing Service Bulletin 767-57A0060 | 2 | January 31, 2002.
Boeing Service Bulletin 767-57-0068 | 1 | May 9, 2002.
Boeing Service Bulletin 767-57A0094 | 2 | December 17, 2009.
Boeing Service Bulletin 767-57A0095 | 2 | December 17, 2009.

(2) The Director of the Federal Register previously approved the incorporation by reference of the service information contained in Table 4 of this AD on August 28, 2001 (66 FR 38350, July 24, 2001).

Table 4—Material Previously Incorporated by Reference
Document | Revision | Date
Boeing Service Bulletin 767-57A0060 | 1 | December 31, 1998.
Boeing Service Bulletin 767-57-0068 | Original | September 16, 1999.

(3) For service information identified in this AD, contact Boeing Commercial Airplanes, Attention: Data & Services Management, P.O. Box 3707, MC 2H-65, Seattle, Washington 98124-2207; telephone: 206-544-5000, extension 1; fax: 206-766-5680; e-mail: me.boecom@boeing.com; Internet: https://www.myboeingfleet.com.

(4) You may review copies of the referenced service information at the FAA, Transport Airplane Directorate, 1601 Lind Avenue, SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on May 31, 2011.
Jeffrey E. Duven,
Acting Manager, Transport Airplane Directorate, Aircraft Certification Service.

[FR Doc. 2011-14337 Filed 6-16-11; 8:45 am]

BILLING CODE 4910-13-P